NATIONAL SCIENCE FOUNDATION

Sunshine Act Meetings

The National Science Board (NSB) Committee on Oversight (CO) hereby gives notice of scheduling a videoconference for the transaction of NSB business pursuant to the National Science Foundation Act and the Government in the Sunshine Act.

TIME AND DATE: Thursday, February 19, 2026, from 5:00-6:00 p.m. ET.

PLACE: The meeting will be held by videoconference through the National Science Foundation, 401 Dulaney Street, Alexandria, Virginia 22314. Members of the public can observe this meeting through a YouTube livestream link: https://www.youtube.com/watch?v=BDNgWvmWil0. The link is also available on the NSB `Events' web page.

STATUS: Open.

MATTERS TO BE CONSIDERED: Committee Chair's opening remarks; Presentation of results for NSF 2025 Financial Statement and Federal Information Security And Modernization Act (FISMA) audits; Discussion of data on OIG investigations; Review of Chief Financial Officer's report; and Committee Chair's closing remarks.

CONTACT PERSON FOR MORE INFORMATION: The point of contact for this meeting is Chris Blair, cblair@nsf.gov, 703/292-7000.

Ann E. Bushmiller,
Senior Counsel to the National Science Board.

[FR Doc. 2026-03052 Filed 2-12-26; 11:15 am]

BILLING CODE 7555-01-P